DEPARTMENT OF JUSTICE

Antitrust Division

Notice Pursuant to the National Cooperative Research and Production Act of 1993—American Gear Manufacturers Association

Notice is hereby given that, on September 24, 2004, pursuant to Section 6(a) of the National Cooperative Research and Production Act of 1993, 15 U.S.C. 4301 et seq. (“the Act”), American Gear Manufacturers Association (“AGMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: American Gear Manufacturers Association, Alexandria, VA. The nature and scope of AGMA's standards development activities are: The development and promulgation of voluntary consensus standards for the U.S. gear and mechanical power transmission industries.

Dorothy B. Fountain,
Deputy Director of Operations, Antitrust Division.

[FR Doc. 04-26217 Filed 11-26-04; 8:45 am]

BILLING CODE 4410-11-M